DEPARTMENT OF COMMERCE

National Oceanic and Atmospheric Administration

[I.D. 021103A]

Fisheries off West Coast States and in the Western Pacific; Western Pacific Crustacean Fisheries; 2003 Bank-specific Harvest Guidelines

AGENCY: National Marine Fisheries Service (NMFS), National Oceanic and Atmospheric Administration (NOAA), Commerce.

ACTION: Notification of no harvest guideline for crustaceans.

SUMMARY: NMFS announces that annual harvest guidelines for the commercial lobster fishery in the Northwestern Hawaiian Islands (NWHI) will not be issued for the year 2003.

ADDRESSES: Copies of background material pertaining to this action, which is identical to the action taken in 2001, may be obtained from Dr. Charles Karnella, Administrator, NMFS, Pacific Islands Area Office, 1601 Kapiolani Blvd., Suite 1110, Honolulu, HI 96814.

FOR FURTHER INFORMATION CONTACT: Alvin Katekaru at 808-973-2937.

SUPPLEMENTARY INFORMATION: Under the Fishery Management Plan for the Crustacean Fisheries of the Western Pacific Region, 50 CFR 660.50(b)(2), NMFS is required to publish the harvest guidelines for lobster Permit Area 1 around the NWHI. Although the lobster stock is not overfished, the NWHI lobster fishery has been closed since 2000: (1) as a precautionary measure to prevent overfishing of the lobster resources; (2) in compliance with an order of the U.S. District Court for the District of Hawaii to keep the crustacean fisheries closed until an environmental impact statement and a biological opinion have been prepared for the crustacean fisheries in the western Pacific region; and (3) consistent with Executive Orders 13178 and 13196, issued in December 2000 and January 2001, respectively, that appear to close indefinitely the NWHI crustacean fishery.

NMFS announces that it will not be publishing any harvest guideline for this fishery for the year 2003 and no harvest of NWHI lobster resources will be allowed. NMFS intends to conduct biological research on the status of NWHI lobster resources and to examine the resulting data for indications as to the appropriate direction for future fishery management actions.

Authority: 16 U.S.C. 1801 et seq.

Dated: February 13, 2003.
Richard W. Surdi,
Acting Director, Office of Sustainable Fisheries, National Marine Fisheries Service.

[FR Doc. 03-4139 Filed 2-20-03; 8:45 am]

BILLING CODE 3510-22-S